DEPARTMENT OF STATE

[Public Notice: 9486]

Shipping Coordinating Committee; Notice of Public Meeting

The Shipping Coordinating Committee (SHC) will conduct an open meeting at 9:00 a.m. on May 4, 2016, in Room 9-12 of the United States Department of Transportation building, 1200 New Jersey Ave SE., Washington, DC 20591. The primary purpose of the meeting is to prepare for the ninety sixth Session of the International Maritime Organization's (IMO) Maritime Safety Committee to be held at the IMO Headquarters, United Kingdom, May 11-20, 2016.

The agenda items to be considered include:

—Adoption of the agenda; report of credentials

—Decisions of other IMO bodies

—Consideration and adoption of amendments to mandatory instruments

—Measures to enhance maritime security

—Goal-based new ship construction standards

—Passenger ship safety

—Mandatory instrument and/or provisions addressing safety standards for the carriage of more than 12 industrial personnel on board vessels engaged on international voyages

—Ship systems and equipment (report of the second session and urgent matters emanating from the third session of the Sub-Committee)

—Implementation of IMO instruments (report of the second session of the Sub-Committee)

—Carriage of cargoes and containers (report of the second session of the Sub-Committee)

—Ship design and construction (report of the third session of the Sub-Committee)

—Human element, training and watchkeeping (report of the third session of the Sub-Committee)

—Pollution prevention and response (report of the third session of the Sub-Committee)

—Navigation, communications, search and rescue (urgent matters emanating from the third session of the Sub-Committee)

—Capacity building for the implementation of new measures

—Formal safety assessment, including general cargo ship safety

—Piracy and armed robbery against ships

—Unsafe mixed migration by sea

—Analysis and consideration of recommendations to reduce administrative burdens in IMO instruments including those identified by the SG-RAR

—Implementation of instruments and related matters

—Relations with other organizations

—Application of the Committee's Guidelines

—Work programme

—Any other business

—Consideration of the report of the Committee on its ninety-sixth session

Members of the public may attend this meeting up to the seating capacity of the room. To facilitate the building security process, and to request reasonable accommodation, those who plan to attend should contact the meeting coordinator, LCDR Tiffany Duffy, by email at tiffany.a.duffy@uscg.mil, by phone at (202) 372-1376, by fax at (202) 372-8382, or in writing at 2703 Martin Luther King Jr. Ave. SE., Stop 7509, Washington, DC 20593-7509 not later than April 27, 2016. Requests made after April 27, 2016 might not be able to be accommodated. Please note that due to security considerations, two valid, government issued photo identifications must be presented to gain entrance to the Department of Transportation building. The Department of Transportation building is accessible by taxi, privately owned conveyance, and public transportation. However, parking in the vicinity of the building is extremely limited. In the case of inclement weather in the Washington, DC area where the Federal Government is closed or delayed, a public meeting may be conducted virtually by calling (202) 475-4000 or 1-855-475-2447, Participant code: 887 809 72. The meeting coordinator will confirm whether the virtual public meeting will be utilized by posting an announcement at: www.uscg.mil/imo/MSC/. Members of the public can find out whether the Federal Government is delayed or closed by visiting www.opm.gov/status/. Additional information regarding this and other SHC public meetings may be found at: www.uscg.mil/imo/.

Dated: March 10, 2016.
Jonathan W. Burby,
Executive Secretary, Shipping Coordinating Committee, Department of State.

[FR Doc. 2016-06058 Filed 3-16-16; 8:45 am]

BILLING CODE 4710-09-P